DEPARTMENT OF HEALTH AND HUMAN SERVICES

Centers for Medicare & Medicaid Services

[Document Identifier: CMS-10142 and CMS-R-262]

Agency Information Collection Activities: Submission for OMB Review; Comment Request; Extension of Comment Period

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Title of Information Collection: Bid Pricing Tool (BPT) for Medicare Advantage (MA) Plans and Prescription Drug Plans (PDP). Form Number: CMS-10142 (OCN: 0938-0944). For policy questions regarding this collection contact Diane Spitalnic at (410) 786-5745. For all other issues call (410) 786-1326.

2. Title of Information Collection: Plan Benefit Package (PBP) and Formulary Submission for Medicare Advantage (MA) Plans and Prescription Drug Plans (PDP). Form Number: CMS-R-262 (OCN: 0938-0763). For policy questions regarding this collection contact Kristy Holtje at (410) 786-2209. For all other issues call (410) 786-1326.

Extension of Comment Period

The Type of Information Collection Request, Use, Frequency, Affected Public, Number of Respondents, Total Annual Responses, and Total Annual Hours are described in the 30-day notice that published on January 4, 2012 (77 FR 292) and are not repeated here. While no changes have been made to the requirements or burden estimates, the supporting materials have been revised. This information was inadvertently omitted from the 30-day notice. In the interest of ensuring that the public is aware of the revised supporting materials and has additional time to review and comment on those materials, we are publishing this notice and extending the public comment period for 10 days.

To be assured consideration, comments and recommendations for the proposed information collections must be received by the OMB desk officer at the address below, no later than 5 p.m. on February 13, 2012:

OMB, Office of Information and Regulatory Affairs, Attention: CMS Desk Officer, Fax Number: (202) 395-6974, Email: OIRA_submission@omb.eop.gov.

To obtain copies of the supporting statement and any related forms for the proposed paperwork collections referenced above, access CMS Web Site address at http://www.cms.hhs.gov/PaperworkReductionActof1995, or email your request, including your address, phone number, OMB number, and CMS document identifier, to Paperwork@cms.hhs.gov, or call the Reports Clearance Office on (410) 786-1326.

Dated: January 23, 2012.
Martique Jones,
Director, Regulations Development Group, Division-B, Office of Strategic Operations and Regulatory Affairs.

[FR Doc. 2012-1773 Filed 1-26-12; 8:45 am]

BILLING CODE 4120-01-P